DEPARTMENT OF TRANSPORTATION

Federal Aviation Administration

14 CFR Part 71

[Docket No. FAA-2014-0871; Airspace Docket No. 14-AWP-8]

Amendment of Class E Airspace; Coaldale, NV

AGENCY: Federal Aviation Administration (FAA), DOT.

ACTION: Final rule.

SUMMARY: This action modifies Class E airspace at the Coaldale VHF Omni-Directional Radio Range Tactical Air Navigation Aid (VORTAC), Coaldale, NV, to facilitate vectoring of Instrument Flight Rules (IFR) aircraft under control of Oakland Air Route Traffic Control Center (ARTCC). This action also corrects the Title of this rulemaking by classifying this action as an amendment of versus establishment of Class E airspace, as reflected in the NRPM. This action enhances the safety and management of IFR operations within the National Airspace System (NAS).

DATES: Effective 0901 UTC, April 30, 2015. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed online at http://www.faa.gov/airtraffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Regulations Group, Federal Aviation Administration, 800 Independence Avenue SW., Washington, DC 29591; telephone: 202-267-8783.

FOR FURTHER INFORMATION CONTACT: Steve Haga, Federal Aviation Administration, Operations Support Group, Western Service Center, 1601 Lind Avenue SW., Renton, WA 98057; telephone (425) 203-4563.

SUPPLEMENTARY INFORMATION:

History

On December 12, 2014 the FAA published in the Federal Register a notice of proposed rulemaking (NPRM) to establish Class E en route domestic airspace at the Coaldale VORTAC, Coaldale, NV (79 FR 73854). Interested parties were invited to participate in this rulemaking effort by submitting written comments on the proposal to the FAA. One comment was received from the National Business Aviation Association in support of the proposal. Subsequent to publication, the FAA found Class E airspace already exists for the Coaldale VORTAC, NV. Therefore, this final rule is an amendment versus establishment of controlled airspace.

Class E airspace designations are published in paragraph 6006, of FAA Order 7400.9Y, dated August 6, 2014, and effective September 15, 2014, which is incorporated by reference in 14 CFR part 71.1. The Class E airspace designation listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This amendment to Title 14, Code of Federal Regulations (14 CFR) part 71 modifies Class E en route domestic airspace extending upward from 1,200 feet above the surface at the Coaldale VORTAC navigation aid, Coaldale, NV. By this action, aircraft are contained while in IFR conditions under control of Oakland ARTCC by vectoring aircraft from en route airspace to terminal areas. This action enhances the safety and management of controlled airspace within the NAS. The Title heading for this document is changed from Establishment of Class E Airspace to Amendment of Class E Airspace, Coaldale, NV, with minor edits, as Class E airspace already exists for the Coaldale VORTAC, Coaldale, NV.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at the Coaldale VORTAC, Coaldale, NV.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 6006 En Route Domestic Airspace Areas.

* * * * *

AWP NV E6 Coaldale, NV [Modified]

Coaldale VORTAC, NV

(Lat. 38°00′12″ N., long. 117°46′14″ W.)

That airspace extending upward from 1,200 feet above the surface within an area bounded by a line beginning at lat. 39°39′28″ N., long. 117°59′55″ W.; to lat. 37°55′11″ N., long. 117°53′37″ W.; to lat. 38°13′30″ N., long. 117°16′30″ W.; to lat. 38°05′00″ N., long. 117°16′00″ W.; to lat. 37°53′00″ N., long. 117°05′41″ W.; to lat. 37°33′00″ N., long. 117°05′41″ W.; to lat. 37°26′30″ N., long. 117°04′33″ W.; to lat. 37°22′00″ N., long. 117°00′30″ W.; to lat. 37°12′00″ N., long. 117°20′00″ W.; to lat. 37°12′02″ N., long. 117°53′49″ W.; to lat. 37°12′00″ N., long. 118°35′00″ W.; to lat. 36°08′00″ N., long. 118°35′00″ W.; to lat. 36°08′00″ N., long. 118°52′00″ W.; to lat. 37°47′57″ N., long. 120°22′00″ W.; to lat. 38°53′30″ N., long. 119°49′00″ W.; thence to the point of beginning.

Issued in Seattle, Washington, on March 12, 2015.
Christopher Ramirez,
Acting Manager, Operations Support Group, Western Service Center, AJV-W2.

[FR Doc. 2015-06325 Filed 3-19-15; 8:45 am]

BILLING CODE 4910-13-P